ENVIRONMENTAL PROTECTION AGENCY

[FRL-8022-8]

Science Advisory Board Staff Office Clean Air Scientific Advisory Committee (CASAC) CASAC Particulate Matter Review Panel; Notification of a Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAC) Particulate Matter (PM) Review Panel (Panel) to consider providing the Agency with additional advice and recommendations concerning EPA's proposed revisions to the PM National Ambient Air Quality Standards (NAAQS).

DATES: The teleconference meeting will be held on Friday, February 3, 2006, from 1 to 5 p.m. (Eastern Time).

FOR FURTHER INFORMATION CONTACT: Any member of the public who wishes to obtain the teleconference call-in number and access code, would like to submit written or brief oral comments or want further information concerning this teleconference meeting should contact Mr. Fred Butterfield, Designated Federal Officer (DFO), EPA Science Advisory Board (1400F), U.S. Environmental Protection Agency, 1200 Pennsylvania Avenue, NW., Washington, DC 20460, via telephone/voice mail: (202) 343-9994, fax: (202) 233-0643, or e-mail at: butterfield.fred@epa.gov. General information concerning the CASAC or the EPA SAB can be found on the EPA Web site at: http://www.epa.gov/sab.

SUPPLEMENTARY INFORMATION: Summary: The CASAC, which is comprised of seven members appointed by the EPA Administrator was established under section 109(d)(2) of the Clean Air Act (CAA or Act) (42 U.S.C. 7409) as an independent scientific advisory committee in part to provide advice, information and recommendations on the scientific and technical aspects of issues related to air quality criteria and NAAQS under sections 108 and 109 of the Act. The CASAC is a Federal advisory committee chartered under the Federal Advisory Committee Act (FACA), as amended, 5 U.S.C., App. The CASAC PM Review Panel—which consists of the seven members of the statutory, chartered CASAC supplemented by fifteen subject-matter-expert Panelists—complies with the provisions of FACA and all appropriate SAB Staff Office procedural policies.

This teleconference meeting is being held for the CASAC to consider providing the Agency with additional advice and recommendations concerning EPA's December 20, 2005, proposal to revise the PM NAAQS.

Background: Under section 108 of the CAA, the Agency is required to establish NAAQS for each pollutant for which EPA has issued criteria, including PM. Section 109(d) of the Act subsequently requires periodic review and, if appropriate, revision of existing air quality criteria to reflect advances in scientific knowledge on the effects of the pollutant on public health and welfare. EPA is also to revise the NAAQS, if appropriate, based on the revised criteria.

This teleconference meeting is a continuation of the CASAC PM Review Panel's ongoing advisory activities in this present NAAQS review cycle for particulate matter. The CASAC's most recent final reports to the Administrator on this issue—from the Panel's peer review of the second draft PM Staff Paper and the second draft PM Risk Assessment (EPA-SAB-CASAC-05-007, dated June 6, 2005) and pursuant to the Panel's August 11, 2005, teleconference to review EPA Staff recommendations concerning a potential thoracic coarse PM standard in the final PM Staff Paper (EPA-SAB-CASAC-05-012, dated September 15, 2005)—are posted on the SAB Web site at: (searchable at: http://www.epa.gov/sab/fiscal05.html). The Agency proposed revisions to the PM NAAQS on December 20, 2005.

Availability of Meeting Materials: EPA's proposal to revise the PM NAAQS can be accessed at: http://www.epa.gov/air/particlepollution/actions.html. In addition, it is expected that this proposed Agency rule will be published in the Federal Register on or about January 17, 2006, at: http://www.gpoaccess.gov/fr/index.html. Finally, a copy of the draft meeting agenda will be posted at: http://www.epa.gov/sab/agendas.htm in advance of this CASAC PM Review Panel teleconference.

Procedures for Providing Public Input: Interested members of the public may submit relevant written or oral information for the CASAC PM Review Panel to consider during the advisory process. Oral Statements: In general, individuals or groups requesting an oral presentation at a public teleconference will be limited to three minutes per speaker with no more than a total of thirty minutes for all speakers. Interested parties should contact Mr. Butterfield, DFO (preferably via e-mail) at the contact information noted above, by January 27, 2006, to be placed on the public speaker list for the teleconference. Written Statements: Written statements should be received in the SAB Staff Office by January 27, 2006, so that the information may be made available to the Panel for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: January 12, 2006.
Anthony Maciorowski,
Acting Director, EPA Science Advisory Board Staff Office.

[FR Doc. E6-467 Filed 1-17-06; 8:45 am]

BILLING CODE 6560-50-P